DEPARTMENT OF TRANSPORTATION

Federal Aviation Administration

Notice of Passenger Facility Charge (PFC) Approvals and Disapprovals

AGENCY: Federal Aviation Administration (FAA), DOT.

ACTION: Monthly Notice of PFC Approvals and Disapprovals. In November 2005, there were two applications approved. This notice also includes information on two applications, one approved in June 2005 and the other approved in October 2005, inadvertently left off the June 2005 and October 2005 notices, respectively. Additionally, two approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Waterloo Airport Commission, Waterloo, Iowa.

Application Number: 05-06-U-00-ALO.

Application Type: Use PFC revenue.

PFC Level: $4.50.

Total PFC Revenue to Be Used in This Decision: $360,000.

Charge Effective Date: July 1, 2004.

Estimated Charge Expiration Date: April 1, 2007.

Class of Air Carriers Not Required to Collect PFCs: No change from previous decision.

Brief Description of Project Approved For Use: Reconstruction of terminal area ramp.

Decision Date: June 14, 2005.

FOR FURTHER INFORMATION CONTACT: Lorna Sandridge, Central Region Airports Division, (816) 329-2641.

Public Agency: Puerto Rico Ports Authority, San Juan, Puerto Rico.

Application Number: 05-05-C-00-SJU.

Application Type: Impose and use a PFC.

PFC Level: $4.50.

Total PFC Revenue Approved in This Decision: $321,135,482.

Earliest Charge Effective Date: June 1, 2008.

Estimated Charge Expiration Date: May 1, 2027.

Class of Air Carriers Not Required to Collect PFCs: None.

Brief Description of Project Approved for Collection at Luis Munoz Marin International Airport (SJU) and Use at Rafael Hernandez Airport (BQN) at a $3.00 PFC Level: Study, design and construct new runway pavement, runway 8/26.

Brief Description of Project Approved for Collection at SJU and Use at Roosevelt Roads Offsite Field at a $3.00 PFC Level: Initial master plan.

Brief Description of Projects Approved For Collection at SJU and Use at SJU at a $4.50 PFC Level:

Rehabilitate lighting system, runway 8/26, and relocation of north vault.

Construct and extend taxiway Sierra embankment.

Runway safety area extension, runway 8/26, design and construction.

Reconstruct runway 10/28.

Upgrade security fence and security access road.

Brief Description of Projects Approved for Collection at SJU and Use at SJU at a $3.00 PFC Level:

New domestic terminal building for group/cruise passengers—terminal A and conveyor.

Mitigation project for airport capital improvement program.

Puerto Rico interactive aviation system plan.

Brief Description of Projects Approved for Collection at SJU and Use at SJU at a $4.50 PFC Level:

Improve computer access system and control room.

Transportation Security Administration mitigtion and phase II commercial development.

Determination: Actual eligible construction costs were less than the amount requested.

Brief Description of Projects Approved for Collection at SJU and Use at SJU at a $3.00 PFC Level: Digital capital improvement program.

Determination: The request project included training, which was determined to be ineligible.

Brief Description of Withdrawn Project: Reconstruction of Kilo and associated aprons.

Date of Withdrawal: August 11, 2005.

Decision Date: October 27, 2005.

FOR FURTHER INFORMATION CONTACT: Susan Moore, Orlando Airports District Office, (407) 812-6331 extension 120.

Public Agency: San Diego Regional Airport Authority, San Diego, California.

Application Number: 05-04-C-00-SAN.

Application Type: Impose and use a PFC.

PFC Level: $4.50.

Total PFC Revenue Approved in This Decision: $110,064,925.

Earliest Charge Effective Date: March 1, 2006.

Estimated Charge Expiration Date: April 1, 2009.

Class of Air Carriers not Required To Collect PFC's: Nonscheduled/on-demand air carriers filing FAA Form 1800-31.

Determination: Approved. Based on information contained in the public agency's application, the FAA has determined that the approved class accounts for less than 1 percent of the total annual enplanements at San Diego International Airport.

Brief Description of Projects Approved for Collection and Use at a $4.50 PFC Level:

Taxiway B improvements.

Runway 9/27 improvements.

Re-seal portland cement concrete joints.

Airport security improvements.

Noise mitigtion.

Brief Description of Projects Approved for Collection and Use at a $3.00 PFC Level:

Terminal improvements.

Construct interior consolidated baggage distribution facility.

Install airport-wide communications infrastructure.

Brief Description of Projects Approved for Collection at a $4.50 PFC Level: Rehabilitate taxiway C (C1-C4).

Decision Date: November 22, 2005.

FOR FURTHER INFORMATION CONTACT: George Buley, Western Pacific Region Airports Division, (310) 725-3617.

Public Agency: City of Santa Barbara, California.

Application Number: 05-04-C-00-SBA.

Application Type: Impose and use a PFC.

PFC Level: $4.50.

Total PFC Revenue Approved in this Decision: $2,000,000.

Earliest Charge Effective Date: February 1, 2006.

Estimated Charge Expiration Date: December 1, 2007.

Class of Air Carriers not Required To Collect PFC's:

Non-scheduled/on-demand air carriers filing FAA Form 1800-31.

Determination: Approved. Based on information contained in the public agency's application, the FAA has determined that the approved class accounts for less than 1 percent of the total annual enplanements at Santa Barbara Municipal Airport.

Brief Description of Project Approved For Collection and Use: Reconstruction of Portland cement and asphalt concrete aprons.

Decision Date: November 22, 2005.

FOR FURTHER INFORMATION CONTACT: Chuck McCormick, Western Pacific Region Airports Division, (310) 725-3626.

Amendment to PFC Approvals

Amendment No. city, state | Amendment approved date | Original approved net PFC revenue | Amended approved net PFC revenue | Original estimated charge exp. date | Amended estimated charge exp. date
99-03-C-02-BOI, Boise, ID | 10/28/05 | $75,631,748 | $96,884,411 | 04/01/13 | 08/01/18
01-03-C-03-JNU, Juneau, AK | 11/08/05 | 420,712 | 440,449 | 01/01/02 | 01/01/02

Issued in Washington, DC on December 21, 2005.
Joe Hebert,
Manager, Financial Analysis and Passenger Facility Charge Branch.

[FR Doc. 05-24664 Filed 12-29-05; 8:45 am]

BILLING CODE 4910-13-M004